ENVIRONMENTAL PROTECTION AGENCY

[OPP-64059; FRL-6791-8]

Cancellation of Pesticides for Non-Payment of Year 2001 Registration Maintenance Fees

AGENCY: Environmental Protection Agency (EPA).

ACTION: Notice.

SUMMARY: Since the amendments of October 1988, the Federal Insecticide, Fungicide, and Rodenticide Act (FIFRA) has required payment of an annual maintenance fee to keep pesticide registrations in effect. The fee due last January 15 has gone unpaid for about 906 registrations. Section 4(i)(5)(g) of FIFRA provides that the Administrator may cancel these registrations by order and without a hearing; orders to cancel all 906 of these registrations have been issued within the past few days.

FOR FURTHER INFORMATION CONTACT: By mail: John Jamula, Office of Pesticide Programs (H7504C), Environmental Protection Agency, 1200 Pennsylvania Avenue NW, Washington, DC 20460. Office location, telephone number and e-mail address: Rm. 226, Crystal Mall No. 2, 1921 Jefferson Davis Highway South, Arlington, VA 22202, (703) 305-6426; e-mail: jamula.john@epa.gov.

SUPPLEMENTARY INFORMATION:

I. General Information

A. Does this Action Apply to Me?

You may be potentially affected by this notice if you are an EPA registrant with any approved product registration(s). Although this action may be of particular interest to persons who produce or use pesticides, the Agency has not attempted to describe all the specific entities that may be affected by this action. If you have any questions regarding the information in this notice, consult the person listed under FOR FURTHER INFORMATION CONTACT.

B. How Can I Get Additional Information or Copies of Support Documents?

1. Electronically. You may obtain electronic copies of this document, and certain other related documents that might be available electronically, from the EPA Internet Home page at http://www.epa.gov/. To access this document, on the Home Page select “Laws and Regulations,” “Regulations and Proposed Rules,” and then look up the entry for this document under the “Federal Register—Environmental Documents.” You can go directly to the Federal Register listings at http://www.epa.gov/fedrgstr/.

2. In person. The official record for this notice, as well as the public version, has been established under docket control number OPP-64059, (including comments and data submitted electronically as described below). A public version of this record, including printed, paper versions of any electronic comments, which does not include any information claimed as CBI, is available for inspection in Rm. 119, Crystal Mall #2, 1921 Jefferson Davis Highway, Arlington, VA, from 8:30 a.m. to 4:00 p.m., Monday through Friday, excluding legal holidays.

II. Introduction

Section 4(i)(5) of FIFRA as amended in October 1988, December 1991, and again in August 1996, requires that all pesticide registrants pay an annual registration maintenance fee, due by January 15 of each year, to keep their registrations in effect. This requirement applies to all registrations granted under section 3 as well as those granted under section 24(c) to meet special local needs. Registrations for which the fee is not paid are subject to cancellation by order and without a hearing.

The 1990 Farm Bill, amended FIFRA to allow the Administrator to reduce or waive maintenance fees for minor agricultural use pesticides when she determines that the fee would be likely to cause significant impact on the availability of the pesticide for the use. The Agency has waived the fee for 117 minor agricultural use registrations at the request of the registrants.

In late November 2000, all holders of either section 3 registrations or section 24(c) registrations were sent lists of their active registrations, along with forms and instructions for responding. They were asked to identify which of their registrations they wished to maintain in effect, and to calculate and remit the appropriate maintenance fees. Most responses were received by the statutory deadline of January 15. A notice of intent to cancel was sent in mid-February to companies who did not respond and to companies who responded, but paid for less than all of their registrations.

Since mailing the notices, EPA has maintained a toll-free inquiry number through which the questions of affected registrants have been answered. Maintenance fees have been paid for about 15,803 section 3 registrations, or about 94 percent of the registrations on file in November. Fees have been paid for about 2,458 section 24(c) registrations, or about 85 percent of the total on file in November. Cancellations for non-payment of the maintenance fee affect about 575 section 3 registrations and about 331 section 24(c) registrations.

The cancellation orders generally permit registrants to continue to sell and distribute existing stocks of the canceled products until January 15, 2002, one year after the date on which the fee was due. Existing stocks already in the hands of dealers or users, however, can generally be distributed, sold or used legally until they are exhausted. Existing stocks are defined as those stocks of a registered pesticide product which are currently in the U.S. and which have been packaged, labeled and released for shipment prior to the effective date of the action.

The exceptions to these general rules are cases where more stringent restrictions on sale, distribution, or use of the products have already been imposed, through Special Reviews or other Agency actions. These general provisions for disposition of stocks should serve in most cases to cushion the impact of these cancellations while the market adjusts.

III. Listing of Registrations Canceled for Non-Payment

Table 1 lists all of the section 24(c) registrations, and Table 2 lists all of the section 3 registrations which were canceled for non-payment of the 2000 maintenance fee. These registrations have been canceled by order and without hearing. Cancellation orders were sent to affected registrants via certified mail in the past several days. It is Agency policy to rescind cancellation of any particular registration only if the cancellation resulted from Agency error.

Table 1. — Section 24(c) Registrations Canceled for Non-Payment of Maintenance Fee
SLN No. | Product Name
000264 AL-90-0011 | Illoxan 3EC Herbicide
010163 AL-97-0001 | Imidan 70-WP Agricultural Insecticide
000707 AL-99-0007 | Confirm 2F Agricultural Insecticide
000279 AR-00-0010 | Command 3ME Microencapsulated Herbicide
050534 AR-90-0001 | Bravo 720
000264 AR-93-0002 | Illoxan Herbicide
010163 AR-96-0002 | Imidan 70-WP Agricultural Insecticide
000279 AR-97-0001 | Furadan 3G Insecticide - Nematicide
000707 AR-99-0010 | Confirm 2F Agricultural Insecticide
010163 AZ-99-0004 | Imidan 70-WSB
073344 CA-00-0002 | Pro-Gibb 4% Liquid Concentrate
073317 CA-00-0005 | Pro-Gibb 4% Liquid Concentrate
003125 CA-00-0008 | Di - Syston 8
000100 CA-77-0039 | Supracide 25WP Insecticide-Miticide
050534 CA-77-0095 | Bueno-6
050534 CA-77-0096 | DSMA Liquid
062719 CA-77-0532 | Treflan E.C.
003125 CA-79-0139 | Guthion Solupak 50% Wettable Powder Insecticide
050534 CA-79-0189 | Bueno 6
003125 CA-79-0235 | Sencor 4 Flowable Herbicide
050534 CA-80-0077 | Ansar 529-HC Herbicide
000100 CA-81-0005 | D-Z-N Diazinon 50W Insecticide
003125 CA-81-0074 | Guthion 50% Wettable Powder (PVA)
000100 CA-82-0004 | Supracide 25W Insecticide-Miticide
000264 CA-85-0035 | Rovral Fungicide
050534 CA-85-0066 | Bravo 500
011179 CA-86-0044 | Dithane M-45 Agricultural Fungicide
059639 CA-87-0064 | Orthene 75 S Soluble Powder
059623 CA-89-0042 | Hercon Insectape Professional Strength with Propoxur
000100 CA-90-0002 | Supracide 25W Insecticide-Miticide
065247 CA-90-0013 | Rovral Fungicide
010182 CA-90-0025 | Devrinol 50-DF
010163 CA-91-0033 | Imidan 50-WP Agricultural Insecticide
010163 CA-91-0034 | Imidan 50-WP Agricultural Insecticide
010182 CA-93-0018 | Devrinol 50-DF Selective Herbicide
059623 CA-94-0019 | M-Pede Insecticide
010163 CA-97-0001 | Prefar 6-E Herbicide
039834 CA-97-0002 | Veratran D
060256 CA-97-0004 | Trigard Insecticide
000279 CA-97-0005 | Furadan 5G Insecticide - Nematicide
000100 CA-97-0030 | Supracide 25WP Insecticide-Miticide
000524 CA-98-0019 | MON 65005 Herbicide
066196 CA-98-0022 | Lime-Sulfur Solution
010182 CA-99-0016 | Abound Flowable Fungicide
073380 CO-00-0005 | Knack Insect Growth Regulator
050534 CO-89-0003 | Dacthal W-75 Herbicide
010182 CO-97-0002 | Diquat Herbicide
010182 CO-98-0001 | Warrier Insecticide
000264 CO-99-0001 | Balance Herbicide
000100 CO-99-0003 | Maxim - MZ Potato Seed Protectant
000100 CO-99-0006 | Mefenoxam EC
000400 CO-99-0008 | Dimilin 2l
059639 DE-00-0001 | Orthene 97 Pellets
059639 DE-91-0003 | Dibrom Concentrate
000100 FL-77-0016 | Geigy Diazinon AG 500
000100 FL-77-0017 | D-Z-N Diazinon 50W
010182 FL-78-0021 | Devrinol 50-DF
060182 FL-84-0018 | Kocide 101
059639 FL-89-0006 | Monitor 4 Spray
059639 FL-89-0010 | Monitor 4 Spray
059639 FL-89-0011 | Monitor 4 Spray
059639 FL-89-0012 | Monitor 4 Spray
059639 FL-89-0013 | Monitor 4 Spray
059639 FL-89-0014 | Monitor 4 Spray
050534 FL-90-0006 | Bravo 720
060182 FL-91-0016 | Drexel Sulfur 90W
050534 FL-91-0018 | Bravo 720
010182 FL-93-0004 | Diquat Herbicide
010182 FL-93-0005 | Diquat Herbicide
010182 FL-94-0007 | Diquat Herbicide
050534 FL-95-0005 | Bravo 825
059639 FL-96-0003 | Monitor 4 Spray
000400 FL-96-0014 | Micromite 25W
050534 FL-97-0002 | Daconil 720 Flowable Fungicide
050534 FL-97-0003 | Daconil SDG
010182 FL-97-0005 | Reward Aquatic and Noncrop Herbicide
011220 FL-97-0007 | Tri-Con 67/33
000707 FL-99-0012 | Confirm 2F Agricultural Insecticide
059639 GA-77-0011 | Dibrom Concentrate
003125 GA-84-0006 | Sencor DF 75% Dry Flowable Herbicide
000707 GA-89-0006 | Goal 1.6E Herbicide
010182 GA-93-0005 | Diquat Herbicide
010163 GA-95-0002 | Imidan 70-WSB
010163 GA-96-0003 | Imidan 70-WSB
010163 GA-96-0004 | Imidan 70-WP Agricultural Insecticide
010182 HI-92-0007 | Devrinol 50-DF Selective Herbicide
000524 HI-95-0003 | Roundup Herbicide
000524 HI-96-0005 | MON-65005 Herbicide
000352 IA-95-0002 | Dupont Glean Herbicide
050534 ID-77-0019 | Bueno-6
010182 ID-78-0026 | Ro-Neet 6E A Selective Herbicide Emulsifiable Liquid
059639 ID-90-0016 | Dibrom 8 Emulsive
010182 ID-94-0002 | Ro-Neet 6-E
010182 ID-95-0003 | Premiere Plus Flowable Seed Treatment
010182 ID-95-0007 | Warrior Insecticide
010182 ID-95-0008 | Gramoxone Extra Herbicide
005481 ID-95-0016 | Dibrom 8 Emulsive
010182 ID-95-0017 | Ro-Neet 6-E
000707 ID-96-0001 | Fore Flowable Turf and Ornamental Fungicide
000707 ID-96-0004 | Dimension Turf Herbicide
005481 ID-97-0003 | Vapam Soil Fumigant Solution for All Crops
000100 ID-99-0004 | Maxim - MZ Potato Seed Protectant
000100 ID-99-0009 | Mefenoxam EC
010163 ID-99-0010 | Gowan Dimethoate 4
055146 ID-99-0012 | Ultra Flourish Fungicide
000400 ID-99-0013 | Dimilin 2L
000100 IL-95-0001 | Tilt Fungicide
010163 IL-99-0004 | Imidan 70-WSB
000100 IL-99-0006 | Tilt Fungicide
000100 IL-99-0008 | Tilt Fungicide
000707 IN-84-0003 | Goal 1.6E Herbicide
010163 IN-97-0002 | Imidan 70-WSB
000400 KS-00-0002 | Dimilin 2L
000100 KY-98-0002 | Tilt Fungicide
001800 LA-00-0005 | Command Xtra Herbicide
003510 LA-00-0007 | Pounce 3.2 EC Insecticide
000264 LA-81-0016 | Temik 15 G Aldicarb Pesticide
000264 LA-82-0010 | Temik 15 G Aldicarb Pesticide
059639 LA-83-0018 | Monitor 4 Spray
060282 LA-85-0008 | Cythion Insecticide the Premium Grade Malathion
010182 LA-87-0002 | Ambush Insecticide
050534 LA-88-0008 | Diamond Bueno-6
050534 LA-88-0009 | Arsonate Liquid
059639 LA-91-0010 | Monitor 4 Spray
059639 LA-91-0011 | Monitor 4 Spray
059639 LA-91-0012 | Monitor 4 Spray
059639 LA-91-0016 | Monitor 4 Spray
000707 LA-93-0011 | Goal 1.6E Herbicide
000524 LA-93-0016 | Roundup Herbicide
002217 LA-93-0022 | Acme HI-DEP Herbicide
000524 LA-93-0026 | Roundup D-PAK Herbicide
010182 LA-94-0007 | Gramoxone Extra Herbicide
010163 LA-95-0009 | Imidan 70-WP Agricultural Insecticide
000279 LA-96-0014 | Furadan 3G Insecticide - Nematicide
010182 LA-99-0006 | Reward Landscape and Aquatic Herbicide
044719 MD-00-0001 | Tolcide PS200
000100 ME-99-0001 | Maxim - MZ Potato Seed Protectant
000100 ME-99-0003 | Mefenoxam EC
000201 MI-79-0012 | Pratt Vapona Vaporizer Concentrate
010182 MI-79-0014 | Dyfonate 4E Emulsifiable Liquid
000707 MI-94-0003 | Kerb 50W Herbicide (in WSP)
010163 MI-95-0002 | Imidan 70-WSB
010182 MN-93-0005 | Diquat Herbicide
000707 MN-94-0001 | Goal 1.6E Herbicide
000707 MN-96-0005 | Dithane F-45 Flowable Agricultural Fungicide
000100 MN-99-0003 | Maxim-MZ Potato Seed Protectant
000100 MN-99-0005 | Mefenoxam EC
055146 MN-99-0011 | Ultra Flourish Fungicide
003125 MO-79-0012 | Sencor 4 Flowable Herbicide
000279 MO-97-0001 | Furadan 3G Insecticide - Nematicide
056485 MS-00-0005 | Sanitizer 3134
007182 MS-79-0023 | Destun 4-S Cotton Herbicide
000264 MS-90-0018 | Formula 40 Herbicide
050534 MS-90-0025 | Bueno-6
050534 MS-90-0032 | Arsonate Liquid
000264 MS-91-0019 | Illoxan Herbicide
010163 MS-95-0010 | Imidan 70-WP Agricultural Insecticide
010163 MS-95-0011 | Imidan 70-WSB
010163 MS-96-0004 | Imidan 70-WSB
068119 MS-96-0005 | Wilfarm 2,4-D Amine 4
000279 MS-97-0003 | Furadan 3G Insecticide - Nematicide
042750 MS-98-0003 | 2,4-D Amine 4
070907 MS-98-0007 | Gharda Chlorpyrifos 4e
073235 MT-00-0003 | Temik Brand 15g Aldicarb Pesticide
010182 MT-93-0005 | Diquat Herbicide
000707 MT-97-0002 | Dithane F-45 Flowable Agricultural Fungicide
059639 MT-98-0002 | Dibrom 8 Emulsive
000100 MT-98-0007 | Maxim - MZ Potato Seed Protectant
000400 MT-99-0007 | Dimilin 2L
050534 NC-81-0030 | Dacthal W-75 Herbicide
003125 NC-86-0006 | Sencor DF 75% Dry Flowable Herbicide
010182 NC-89-0003 | Devrinol 50-WP
010182 NC-89-0004 | Devrinol 50-WP
010182 NC-89-0005 | Fusilade 2000 Herbicide
010182 NC-89-0008 | Karate Insecticide
010163 NC-90-0001 | Imidan 50-WP Agricultural Insecticide
000264 NC-91-0001 | Illoxan 3EC Herbicide
010182 NC-95-0006 | Gramoxone Extra Herbicide
010163 NC-98-0004 | Imidan 70-WSB
010163 NC-99-0001 | Imidan 70-WSB
010163 NC-99-0002 | Imidan 70-WSB
000400 ND-00-0006 | Dimilin 2L
010182 ND-81-0008 | Ambush Insecticide
000707 ND-93-0002 | Goal 1.6E Herbicide
010182 ND-95-0007 | Diquat Herbicide
000707 ND-95-0008 | Fore Flowable Turf and Ornamental Fungicide
000100 ND-99-0001 | Maxim - MZ Potato Seed Protectant
000100 ND-99-0004 | Mefenoxam EC
055146 ND-99-0007 | Ultra Flourish Fungicide
000707 NE-96-0001 | Dithane F-45 Flowable Agricultural Fungicide
000400 NE-99-0005 | Dimilin 2L
000352 NJ-94-0009 | Dupont Lannate Insecticide
050534 NM-78-0004 | Bueno-6
050534 NM-78-0005 | DSMA Liquid
000352 NM-82-0023 | Dupont Velpar L Weed Killer
000400 NM-99-0003 | Dimilin 2L
000707 NV-93-0002 | Goal 1.6E Herbicide
010182 NV-95-0003 | Warrior Insecticide
000100 NV-99-0001 | Supracide 25WP Insecticide-Miticide
000400 NV-99-0005 | Dimilin 2L
000352 NY-94-0001 | Dupont Accent SP Herbicide.
000707 NY-95-0001 | Dimension Turf Herbicide
004581 NY-97-0004 | Ziram 76DF Fungicide
050584 NY-99-0005 | Bravo 720
000100 OH-78-0002 | Geigy Diazinon AG 500
000707 OH-88-0001 | Kerb 50-W Herbicide (in Water Soluble Pouches)
000279 OH-96-0005 | Command 4EC Herbicide
000279 OH-96-0006 | Command 4EC Herbicide
050534 OK-78-0002 | DSMA Liquid
000100 OK-79-0010 | Geigy Diazinon AG 500
003125 OK-88-0002 | Di - Syston 8
000264 OK-93-0003 | Illoxan Herbicide
007969 OK-96-0001 | Weedmaster Herbicide
000524 OK-96-0002 | MON-65005 Herbicide
005481 OR-00-0025 | K-Salt Fruit Fix 200
005481 OR-00-0026 | K-Salt Fruit Fix 800
000279 OR-78-0020 | Thiodan 50WP Insecticide
010182 OR-78-0054 | Ro-Neet 6E A Selective Herbicide Emulsifiable Liquid
002935 OR-80-0089 | Red-Top Diazinon 4 Spray
002935 OR-80-0095 | Red Top Superior Spray Oil N.W.
010182 OR-81-0102 | Devrinol 50-DF
005481 OR-83-0012 | Vapam Soil Fumigant Solution
003125 OR-87-0002 | Sencor DF 75% Dry Flowable Herbicide
000707 OR-90-0016 | Goal 1.6E Herbicide
000707 OR-91-0026 | Goal 1.6E Herbicide
002935 OR-92-0022 | IDA, Inc. Diuron 80w
010182 OR-94-0011 | Ro-Neet 6-E
010182 OR-94-0026 | Ro-Neet 6-E
010163 OR-94-0044 | Imidan 70-WSB
010163 OR-94-0046 | Imidan 70-WSB
010163 OR-94-0048 | Imidan 70-WSB
010163 OR-94-0050 | Imidan 70-WSB
005481 OR-95-0015 | Dibrom 8 Emulsive
000707 OR-96-0005 | Goal 1.6E Herbicide
000707 OR-96-0006 | Goal 1.6E Herbicide
000264 OR-96-0017 | Mocap 10% Granular Nematicide Insecticide
000264 OR-96-0018 | Mocap EC Nematicide - Insecticide
000100 OR-96-0030 | Supracide 25WP Insecticide - Miticide
000707 OR-97-0023 | Dithane F-45 Flowable Agricultural Fungicide
071795 OR-98-0014 | Clorox
060063 OR-98-0022 | Echo 720 Agricultural Fungicide
000400 OR-99-0033 | Dimilin 2L
000100 OR-99-0041 | Mefenoxam EC
068030 PR-94-0001 | BVA Spray 15
050534 PR-98-0001 | Bravo 500
000707 RI-97-0001 | Dimension Turf Herbicide
050534 SC-77-0014 | DSMA Liquid
050534 SC-77-0015 | Bueno-6
000264 SC-90-0003 | Illoxan 3EC Herbicide
007969 SC-90-0006 | Ronilan FL
010182 SC-92-0007 | Ro-Neet 6-E
010182 SC-94-0003 | Diquat Herbicide
010163 SC-95-0003 | Imidan 70-WSB
010163 SC-95-0005 | Imidan 70-WSB
010182 SC-97-0008 | Reward Aquatic and Noncrop Herbicide
010163 SC-99-0006 | Imidan 70-WSB
000707 SD-94-0001 | Goal 1.6E Herbicide
000707 SD-94-0003 | Goal 1.6E Herbicide
010182 SD-95-0005 | Diquat Herbicide
050534 SD-96-0004 | Bravo 720
050534 SD-96-0005 | Bravo ZN
000707 SD-98-0001 | Dithane F-45 Flowable Agricultural Fungicide
000400 SD-99-0004 | Dimilin 2L
010182 TN-93-0006 | Arrosolo 3-3E
000264 TN-93-0008 | Illoxan Herbicide
001386 TN-95-0001 | Dursban 4E
010163 TN-95-0005 | Imidan 70-WSB & 70-WP
000707 TN-99-0006 | Confirm 2F Agricultural Insecticide
054444 TX-00-0001 | Dormex
000100 TX-00-0004 | Tilt Gel Fungicide
000352 TX-83-0002 | Dupont Velpar L Weed Killer
059639 TX-89-0007 | Monitor 4 Spray
059639 TX-89-0008 | Monitor 4 Spray
010182 TX-93-0014 | Cyclone Herbicide
000524 TX-94-0003 | Roundup Herbicide
010182 TX-94-0011 | Cyclone Herbicide
010182 TX-95-0010 | Cyclone Concentrate Herbicide
000707 TX-96-0004 | Goal 1.6E Herbicide
000524 TX-96-0014 | MON-65005 Herbicide
000279 TX-97-0003 | Furadan 3G Insecticide - Nematicide
000352 TX-97-0004 | Dupont Staple Herbicide
000279 TX-98-0009 | Firstline GT Plus Termite Bait Station
000707 TX-99-0013 | Confirm 2F Agricultural Insecticide
010163 TX-99-0014 | Imidan 70-WSB
010163 TX-99-0015 | Imidan 70-WP Agricultural Insecticide
050534 UT-88-0004 | Dacthal W-75 Herbicide
010182 UT-97-0002 | Diquat Herbicide
000400 UT-99-0002 | Dimilin 2L
059639 VA-00-0003 | Orthene 97 Pellets
000707 VA-93-0010 | Goal 1.6E Herbicide
050534 VA-94-0002 | Bueno-6
067751 VA-98-0002 | Select 2ec Herbicide
050534 WA-77-0025 | Bueno-6
059639 WA-80-0074 | Volck Supreme Spray
050534 WA-82-0004 | Dacthal W-75 Herbicide
073049 WA-86-0019 | Promalin Plant Growth Regulator
000352 WA-87-0003 | DuPont Telar Herbicide
050534 WA-89-0003 | Dacthal W-75 Herbicide
065230 WA-90-0025 | Vinco Formaldehyde Solution
005481 WA-91-0038 | K-Salt Fruit Fix 800
005481 WA-91-0039 | K-Salt Fruit Fix 200
010182 WA-92-0007 | Devrinol 50-DF Selective Herbicide
010182 WA-92-0035 | Devrinol 50-DF Selective Herbicide
000352 WA-93-0006 | Dupont Escort Herbicide
010182 WA-93-0013 | Diquat Herbicide
010182 WA-93-0019 | Ro-Neet 6-E
007001 WA-94-0022 | Sim-Tec 0.50
010182 WA-94-0030 | Ro-Neet 6-E
010182 WA-94-0037 | Gramoxone Extra Herbicide
010163 WA-95-0015 | Imidan 70-WP Agricultural Insecticide
005481 WA-95-0030 | Dibrom 8 Emulsive
010182 WA-95-0040 | Ro-Neet 6-E
010182 WA-96-0028 | Diquat Herbicide
005481 WA-97-0016 | Vapam Soil Fumigant Solution for All Crops
005481 WA-97-0017 | Vapam Soil Fumigant Solution for All Crops
000524 WA-98-0010 | Rodeo Aquatic Herbicide
000100 WA-99-0009 | Maxim - MZ Potato Seed Protectant
000100 WA-99-0019 | Mefenoxam EC
010163 WA-99-0022 | Gowan Dimethoate 4
000400 WA-99-0026 | Dimilin 2L
050534 WI-94-0002 | Bravo 720
010182 WI-94-0007 | Diquat Herbicide
000707 WI-95-0001 | Goal 1.6E Herbicide
000100 WI-99-0004 | Maxim - MZ Potato Seed Protectant
055146 WI-99-0012 | Ultra Flourish Fungicide
000100 WI-99-0013 | Mefenoxam EC
000100 WV-78-0010 | Geigy Diazinon AG 500
000100 WV-78-0012 | D-Z-N Diazinon 50W
010182 WY-95-0002 | Gramoxone Extra Herbicide
010182 WY-97-0003 | Warrior Insecticide
000400 WY-99-0003 | Dimilin 2L

Table 2. — Section 3 Registrations Canceled for Non-Payment of Maintenance Fee
Registration No. | Product Name
000003-00005 | Formula BF-101 (Roach and Ant Killer)
000016-00042 | Dragon Miracle Weed Preventer
000016-00112 | Dragon Brand Dipel Wettable Biological Insecticide
000016-00165 | Dragon General Purpose Insect Spray
000052-00111 | Tamed Iodine Wescodyne G
000052-00150 | Tamed Iodine Wescodyne
000100-00597 | Dual 8E Herbicide
000100-00673 | Dual Herbicide
000100-00691 | Pennant Liquid Herbicide
000100-00710 | Bicep II Herbicide
000100-00711 | Dual II Herbicide
000100-00712 | Dual IIG Granular Herbicide
000100-00766 | Bicep Lite II Herbicide
000100-00875 | Tough 3.75 EC
000100-00876 | Tough 45 WP
000100-00887 | Mertect 40 Water Dispersible Anti-Mycotic
000100-00917 | Mertect Fungicide
000100-00947 | Broadstrike Dual Magnum Herbicide
000151-00015 | Poineer Super 60 Sanitizer
000192-00148 | Dexol Dexa-Klor Dust
000192-00179 | Dexol Ant, Roach & Spider Control
000192-00207 | Dexol Pest Free Insect Killer
000264-00669 | Starlink Corn
000270-00289 | Security Brand Captan Garden Spray
000279-02791 | Furadan 2 Granules Insecticide - Nematicide
000279-02792 | Furadan 3G Insecticide - Nematicide
000334-00214 | Concept Hospital Disinfectant Deodorant
000334-00241 | Bafix Germicidal Spray & Wipe Cleaner and Surface Deodorant
000334-00292 | Wint Mint Disinfectant
000334-00372 | A-Plus Germicidal Spray & Wipe Cleaner
000334-00385 | MIS-TERY Household Disinfectant and Deodorizer Spray
000334-00417 | C-SPRA Disinfectant Deodorant
000334-00560 | NEU - Quat 64.
000334-00566 | Hytime Metered Aerosol Insecticide
000334-00567 | HBII Wasp & Hornet Killer
000400-00468 | Dimilin W-25 for Soybean
000402-00130 | Hill #2912 Torpedo
000498-00127 | Ant & Roach Spray Formula 2
000498-00133 | Ant & Roach Spray, Formula 3
000498-00155 | Spraypak Wasp Jet Spray
000498-00164 | Spraypak Roach & Bug Killer Insecticide Formula 2
000498-00165 | Spraypak Wasp Spray
000498-00168 | Spraypak Wasp Long Range Jet Spray, Formula 2
000498-00184 | Champion Sprayon Roach, Bug & Ant Killer
000499-00074 | PT 500 Activated Pyrethrum Insect Fogger
000499-00079 | Whitmire Industrial Aerosol Insecticide
000499-00126 | Whitmire's Flys-Off Settling Mist Insecticide
000499-00128 | Whitmire Barn Fogger
000499-00145 | M B Insect Fogger
000499-00150 | Whitmire Patio Fogger
000499-00160 | Whitmire Prescription Treatment No. 110 Aerosol Generator
000499-00166 | Whitmire PT 140 Resmethrin
000499-00168 | Whitmire Institutional Aerosol Insecticide
000499-00170 | Whitmire Industrial Aerosol Insecticide
000499-00180 | Whitmire PT 1200 Resmethrin
000499-00182 | Whitmire PT 565
000499-00184 | Insecticide Pyrethrum Spray No. 580
000499-00185 | Whitmire PT 581 Pyrethrum Spray
000499-00186 | Whitmire Prescription Treatment No. 583
000499-00200 | Whitmire PT 565F Pyrethrum
000499-00202 | Whitmire PT 550F Resmethrin
000499-00208 | Whitmire PT 10 Dairy and Farm Insect Fogger
000499-00209 | Whitmire PT 1400 Sumithrin
000499-00212 | Whitmire PT 527 with Allethrin
000499-00214 | PT 529 with Pyrethrum
000499-00219 | Flys-Away Electronic Insect Killer
000499-00221 | Whitmire PT 3-6-10 Aero-Cide
000499-00230 | Whitmire PT 280
000499-00234 | Whitmire Knox Out MCAP Diazinon Timed Release Insect PT 1500a
000499-00243 | Whitmire Pyreth-In PT 1100 Total Release Insecticide
000499-00245 | Whitmire PT 14 Insect Fogger
000499-00248 | Whitmire Knox-Out Microencapsulated Diazinon PT 1500R
000499-00250 | Whitmire PT 1300 Total Release Insecticide
000499-00261 | Whitmire General Purpose Flea Killer
000499-00277 | Whitmire House and Garden Insect Killer.
000499-00285 | PT 565 Plus Pyrethrum
000499-00306 | Whitmire Talstar PT 1800 Total Release Insecticide
000499-00307 | Whitmire Talstar PT 1800 Directed Spray Insecticide
000499-00333 | P/P Insecticide No. 2
000499-00334 | P/P Insecticide No. 4
000499-00341 | P/P Residual House & Garden Insecticide
000499-00343 | P/P Insecticide No. 32
000499-00344 | P/P Insecticide No. 33
000499-00345 | P/P Insecticide No. 34
000499-00346 | P/P Insecticide No. 35
000499-00347 | P/P Insecticide No. 36
000499-00348 | P/P Flying Insect Killer No. 37
000499-00349 | P/P Household Insect Killer No. 38
000499-00350 | P/P Total Release Indoor Fogger
000499-00351 | P/P Total Release Indoor Fogger No. 4
000499-00380 | Whitmire PT 1300 Orthene Directed Spray Insecticide
000499-00387 | Whitmire PT 1200 Resmethrin Total Release Insecticide
000499-00391 | Whitmire PT 1200 Resmethrin
000499-00392 | Whitmire PT 610M Microencapsulated Insecticide
000506-00159 | Tat Area Fogger II
000506-00178 | TAT Wasp and Hornet Killer TE
000567-00008 | Asarco Sulfuric Acid Desiccant
000572-00056 | Rockland Methoxychlor 2-E
000572-00062 | Rockland Fruit Tree Spray
000572-00165 | Rockland Ferbam Fungicide
000572-00328 | Rockland Home Insect Spray
000572-00330 | Rockland Shade Tree Insect Spray
000572-00341 | Rockland Methoxychlor 25
000572-00346 | Rockland Systemic Rose and Birch Tree Care 8-12-4
000572-00352 | Rockland Diazinon WB Insect Spray
000572-00355 | Rockland Diazinon 2% Garden Dust
000577-00538 | Clearwood Finish with Preservative A 17C2
000577-00542 | Cuprinol Stain & Wood Preservative
000655-00401 | Prentox Intermediate DPB 1000
000655-00405 | Prentox Residual Spray 0.5% Diazinon
000655-00463 | Prentox Diazinon 50% Dust
000655-00473 | Prentox Diazinon 80% Oil Concentrated
000655-00475 | Prentox Diazinon 25% Emulsifiable Concentrate
000655-00500 | Prentox Diazinon 4 lb. Oil Concentrate
000655-00536 | Prentox D.D.V.P. Five
000655-00583 | Prentox Pyronyl-Diazinon Emulsifiable Concentrate
000655-00584 | Prentox Diazinon 1E Insecticide
000655-00595 | Prentox Intermediate DPB-5000
000655-00696 | Prentox Pyrifos 0.50 RTU
000655-00792 | Prentox D+2 Insecticide
000655-00793 | Super Brand D+2 Insecticide
000662-00072 | GDA 25
000748-00289 | CAL-Hypo T50 Calcium Hypochlorite Tablets
000748-00298 | Repak 75 Granules
000748-00299 | Zappit 75
000769-00478 | Dusting Sulphur
000769-00631 | B & G Diazinon 5G
000769-00641 | Dursban 2E Insecticide
000769-00651 | SMCP Methoxychlor 2E Emulsifiable Concentrate
000769-00662 | SMCP Dursban .5% Granular Insecticide
000769-00680 | Dursban Mole Cricket Bait
000769-00687 | SMCP Diazinon 4E Insecticide
000769-00692 | SMCP Diazinon 2D Insecticide Dust
000769-00699 | Dursban 4E Insecticide
000769-00718 | SMCP Diazinon 25 E Lawn and Garden Insect Control
000769-00782 | Omnicide
000769-00808 | Banzol
000769-00871 | Pratt 50W Methoxychlor for Forest & Shade Trees/mosq. Contr.
000769-00914 | Science 50% Methoxychlor Wettable Powder
000769-00940 | Dursban Plus Insecticide
000769-00947 | Pratt EC 2 Methoxychlor Insect Spray
000769-00955 | Pratt Methoxy-Diazinon 20-10 E.C.
000773-00089 | Safecide Brand Bait
000829-00178 | SA-50 Brand Tupersan Crabgrass Killer Granules
000833-00058 | AFCO Tops A Liquid Acid Sanitizer Concentrate
000833-00070 | Tetra San II
000875-00096 | Low Foaming Iodine Sanitizer
000875-00186 | FSD-4 Quaternary Germicidal Cleaner
001001-00071 | 3336 RG
001100-00083 | Fungitrol 234 Fungicide
001159-00186 | Twin Light Chloroneb Turf Fungicide
001190-00051 | Hospi-TOL 256
001203-00007 | Foremost 4510 Minteffect Germicide
001258-01172 | HTH Extra Strength Duration Tablets
001258-01226 | Omacide B 100 Industrial Fungicide
001258-01227 | Omacide B 40 Industrial Fungicide
001258-01228 | Omacide(r) B 30 Industrial Fungicide
001258-01229 | Omacide B 20 Industrial Fungicide
001270-00214 | ZEP Hit Man Spray Insecticide
001270-00217 | ZEP Flush N'kill
001381-00152 | Imperial Ready To Use 1% Vapona
001381-00160 | Agrosol
001381-00161 | Agrosol Flowable Systemic Commercial Seed Treatment Fungicide
001381-00167 | Gammasan Insecticide - Fungicide Hopper Box Seed Treatment
001381-00172 | Granox P-F-M
001381-00173 | Granox CHM Soybean Seed Treatment Fungicide
001386-00646 | Red Panther Parathion 8
001440-00008 | Tomic DU-PY Residual Roach Spray
001452-00003 | Hilo Dip
001459-00070 | Water Base Residual Insect Spray II contains Pyrenone and Diazinon
001475-00150 | Click Para Crystals
001475-00151 | Click Moth Flakes
001475-00156 | Click Moth Balls Paradichlorobenzene 100%
001706-00187 | H-430 Microbiocide
001706-00194 | Metasol D3T-H
001706-00197 | Biochek 60
001706-00199 | H-450 Microbiocide
001706-00202 | Tektamer 38 O.A.
001706-00205 | Tektamer 38 O.L.
001706-00206 | Calgon PB-313l
001706-00214 | Metasol TBT-102
001706-00218 | Ty-Ion A-30
001706-00219 | Ty-Ion A-32
001706-00220 | CC-330 Algaecide
001719-00002 | Cop-R-Tox
001719-00007 | Zin-Tox Clear Wood Preserver 74-2
001812-00434 | Glyphosate Original Herbicide
001965-00087 | Vancide MZ-96 Dispersion
001990-00518 | Farmland Sulfuric Acid Desiccant for Potato Vines
002382-00091 | Fly Repellent Gel
002382-00111 | Aqua-Pel Fly Repellent Spray
002382-00133 | Preventic L.A. WB IGR Water-Based Long Act. Flea & Tick Spray for Dogs
002382-00137 | Flea Ovisterilant Collar for Cats #2
002382-00138 | Flea Ovisterilant Collar for Cats #3
002382-00141 | Permethrin-IGR #3 Flea and Tick Spray for Dogs
002382-00142 | Permethrin-IGR #5 Flea and Tick Spray for Dogs
002382-00147 | Flea Ovisterilant Collar for Dogs #2
002382-00148 | Flea Ovisterilant Collar for Dogs #3
002382-00157 | Permethrin-Pyriproxyfen Residual Shampoo for Dogs #3
002630-00014 | Ocean Spray Insecticide
002724-00282 | Sandoz Dursban Collar for Dogs (RF-9411)
002724-00455 | Zoecon 9202 Aerosol
002724-00480 | Fluvalinate 80% Concentrate
002829-00072 | Industrial Cunilate Wood Seal
002829-00129 | Vinyzene RP 1000
002829-00130 | Cunilate 2002
002829-00134 | Formula 645 Penetrant Sealer
002829-00138 | Nytek 250 WP
002935-00481 | Parathion 4 Spray
002935-00483 | Parathion 8 Aqua
002935-00499 | Solve LV Ester 6
003008-00067 | Woodfume Plus
003095-00054 | PIC Pest Control
003095-00064 | PIC Roach Control III
003125-00083 | Di-Syston 2%
003125-00116 | Di-Syston Systemic Insecticide Granules
003125-00326 | Amaze Technical
003125-00342 | Oftanol 2 Insecticide
003125-00352 | Tempo 2 Lawn and Ornamental Insecticide
003125-00395 | Tempo 20 WP Lawn and Ornamental Insecticide In Water Soluble Packets
003125-00403 | Tempo 20 WP Lawn and Ornamental Insecticide
003234-00028 | Pax Crabgrass and Spurge Preventer Plus Fertilizer
003234-00043 | Ag West Weed and Feed
003276-00025 | Al-Clor 6.6 Sanitizer
003342-00092 | Tiger Livestock Dust
003573-00055 | Tide with Bleach
003573-00057 | Gain with Bleach I
003573-00060 | Cleaning Care II
003573-00061 | Cleaning Care II
003635-00258 | Super-Klor
004000-00070 | Cherry Disinfectant Bowl Cleaner
004091-00006 | Klean-Strip Coppo Extra
004313-00053 | Combo Cleaner-Disinfectant
004313-00054 | Multi-Q Sanitizer
004313-00089 | Residual Roach and Ant Killer
004704-00041 | Roach and Ant Killer #2
004972-00010 | Screen Pruf Aerosol
004972-00017 | Don's DK Concentrate Formula Two
005383-00073 | Troysan Polyphase P-15H
005383-00078 | Woodsman Solid Color Oil Stain
005383-00083 | Troysan Polyphase GWP-1 Wood Preservative Clear
005383-00087 | Real-Wood Wood Preservative
005617-00005 | I Bomb Insecticide
005887-00174 | Cutworm and Lawn Insect Spray
005887-00175 | Ant and Crawling Insect Control
005905-00513 | Parathion 4e Emulsifiable Insecticide Concentrate
005905-00514 | Parathion 8E Emulsifiable Insecticide Concentrate
005905-00515 | Parathion-Methyl Parathion 6-3 Insecticide
005905-00516 | Helena Parathion 8 Flowable Insecticide Concentrate
006218-00029 | Summit Insect Killer
006218-00038 | Summit Super Permacide
006218-00053 | Summit Permacide W Insecticide
006704-00090 | Bayluscide 5% Granular Molluscicide
006921-00002 | Speedee SAN
006959-00067 | Cessco Accudose Aerosol for Fire Ant Control
007122-00066 | Rodere Paraffinized Rat Bait
007122-00069 | Finis (the End) Rat & Mouse Killer
007122-00124 | Roban II AG
007124-00025 | Nu-Clo More Chlor 65
007173-00185 | Rozol Laq-Berry Rat and Mouse Bait
007467-00051 | Climax -3
007501-00015 | Gustafson Methoxychlor 300
007537-00002 | Hobby's Ready To Use Rat and Mouse Bait
007616-00039 | Kem Tek 1-Inch Chlorinating Tablets
007616-00060 | KEM TEK Chlori-Buoy
007616-00072 | KEM TEK Professional Chlorinating Liquid
007616-20007 | KTSH
007701-00053 | Synco Spray Insecticide
007969-00062 | Ronilan FL Fungicide
008329-00001 | 25% Methoxychlor Spray
008370-00004 | FOS-4 Bowl Cleaner
008576-20002 | Sodium Hypochlorite - 10%
008730-00060 | Disrupt CM
008740-20004 | Blue Ribbon Bleach
008780-00040 | Turf Line Weed Killer Plus Turf Fertilizer
008821-20004 | Novel Wash Bleach
008848-00014 | Safeguard Household Roach & Insect Killer
009067-20005 | Aqua Fit
009086-00010 | Revenge Boric Acid Roach Powder
009152-00017 | Bio-Quat
009152-00021 | Tri-Chlor
009167-00009 | Dynasept
009172-00007 | Mr. Scott's Do It Yourself Pest Control
009201-00001 | Floral Bouquet Citronella Candle
009201-00003 | Citronella Oil (technical)
009404-00052 | Sunniland Household Roach and Ant Spray
009404-00053 | Sunniland Dursban “5000” Insect Control Granules
009404-00059 | Turf Power Lawn Food Plus Dursban Insecticide
009404-00066 | Dursban 2-E Insecticide
009404-00067 | Dursban Lawn & Ornamental Spray Concentrate
009404-00071 | Sunniland Mole Cricket Bait
009404-00073 | Lawn Spray
009404-00083 | Dursban 1-E Area
009409-00012 | Pro-Chlor 10.5
009591-00057 | Pro Kill Roach and Ant Spray
009779-00322 | Parathion 8
009779-00351 | Iprodione 4F
009852-00014 | R/o Formula 859-2 Diazinon (with Synergized Pyrethrins)
009852-00071 | R/o Formula 937 Power Fog Insect Fogger
009852-00079 | R/o Formula 913 Institutional Airborne Pest Control
009993-00002 | Foam-Coat Vaporooter
010031-00005 | Petersens Ground Squirrel Killer V for G. Squirrel Control Only
010031-00007 | Sebesta's Pocket Gopher Bait with Barley
010107-00043 | Sevin 5% Dust
010107-00121 | Seed Shield Lindane 25 Planter Box Seed Treater
010163-00194 | Botec Peanut Seed Protectant
010182-00226 | Eptam 87.8% Manufacturing Concentrate
010250-00040 | Hempel's Antifouling Combic 7699-5111 Red
010250-00042 | Hempel's Antifouling 7660-5111 Red
010292-00017 | Liquid Residual Spray Insecticide
010350-00034 | MEC Tomato Pinworm Pheromone Concentrate
010404-00028 | Lesco 39-0-0 Fertilizer with Dursban
010464-00004 | Sodium Hypochlorite-Industrial Grade
010465-00035 | Cunap Wrap
010466-00015 | Ultra Fresh U Nonionic Germistat
010466-00021 | Ultrafresh U Dd Nonionic
010583-00016 | Control Bermudagrass Root Killer
010663-00032 | Devastate
010710-00003 | Trophy No-Bac
010801-00001 | Red Cross Nurse Hospital Disinfectant & Air Deodorizer
010806-00060 | Contact Indoor Fogger IV
010807-00129 | Misty Crack & Crevice Residual Spray W/diazinon & Pyrethrins
011292-00001 | Spearmint Deodorant Disinfectant All Purpose Cleaner
011292-00006 | Aid
011474-00091 | Genie Fogge X Insect Killer
011541-00015 | Sludgetrol A101
011558-00015 | Propionic Acid
011623-00037 | Duricide Pyrenone Dursban Water Based Residual Spray
011623-00040 | Regulator
011682-00034 | Sim-Tec 0.50
011694-00029 | D.C. - 300
011694-00086 | 10 and 1 Vegetation Killer
011694-00101 | AR-101 Ant amp; Roach Spray
011694-00108 | The End. Rally! Total Release Fogger with Insect Growyh Regulator
015341-00002 | Creal-O Insect Spray
019713-00027 | Drexel Methoxychlor Technical
019713-00032 | Methoxychlor 50 W.P.
019713-00034 | Methoxychlor 2 E.C. Emulsifiable Insecticide
020552-00002 | Evergreen Fly Block (with Rabon Oral Larvicide
021164-00018 | Medi-Chlor
021164-00024 | Encore 2100
028293-00153 | Unicorn Rotenone Dip
029909-00030 | Cardinal Concentrated Dip for Dogs and Cats
030574-00001 | L-Fume Pellets
030574-00004 | L-Fume Tablets
030574-00005 | Tri-Tox 57% Pellets
030574-00006 | Tri-Tox 57% Tablets
032273-00009 | Dock & Fence Post Preservative
032802-00036 | Pcnb 10-G Soil Fungicide
032802-00060 | All Season Slug & Snail Bait
032900-00002 | Killquik Mist Insecticide
033161-00011 | Duratox
033458-20001 | Aqua Guard Sodium Hypochlorite 12.5%.
033753-00013 | Bronopol Based Tablets
034810-00006 | Wex-Cel Concentrated Germicidal Detergent
034810-00007 | Super Wex-Cel Concentrated Germicidal Detergent
035138-00053 | Combat Lawn Granulas
035512-00027 | Turf Pride Fertilizer with Dursban
035512-00038 | Dursban “5m” Granules
035512-00039 | Dursban Plus 32-3-8 Fertilizer
035915-00005 | Atrazine 5l Herbicide
035915-00007 | Marzone Brand of Atrazine 80w Herbicide
035915-00013 | Simazine 80 WP
035928-00001 | Micro-Bicide No. 42
036272-00005 | General Insect Spray Ready To Use Residual Insecticide
036272-00010 | Mystic Food Plant Spray
036272-00011 | Mystic General Purpose Insect Spray
036272-00012 | Mystic P-D Insect Spray
036272-00015 | Mystic Roach and Household Insect Spray (aq)
036272-00016 | Mystic Roach and Household Insect Spray II
036272-00017 | Mystic Ant and Roach Spray (aqueous)
036272-00018 | Mystic Residual Spray (aq)
036272-00019 | Concentrate-B
037023-00002 | Kenic Flea Rid Spray for Dogs
038087-00002 | Norbac 84-C
038519-00002 | Thrasher's Roach Master
038539-00005 | Imperial Chlor No. 1
038539-00006 | Imperial Chlor No. 2
040208-00001 | Crack-Shot Residual Insecticide
041451-00002 | Natra Pet Flea and Tick Killer for Puppies + Kittens
041835-00010 | Synerkyl Creme Rinse
042198-00005 | Nac R-5
042697-00043 | Safer Brand Total Release Indoor Insect Fogger III
042697-00045 | Safer Brand Total Release Indoor Insect Fogger IV
042697-00047 | Safer Brand Home Patrol Flea Killer Spray
042697-00048 | Safer Brand Home Patrol Roach Killer Fogger
042697-00049 | Safer Brand Home Patrol Flea Killer Fogger I
042697-00050 | Safer Brand Home Patrol Flea Killer Fogger II
042702-20002 | Pool Hypochlorite “for Swimming Pool Water Treatment”
042836-00004 | Freedom Five Flea and Tick Collar for Dogs
042836-00005 | Freedom Five Flea and Tick Collar for Cats
043410-00071 | Agri-Dyne 18
044215-00069 | Mister II Insect Killer
044215-00103 | Macco Pyrethrin Concentrate #3-6-10
044215-00160 | Permethrin Pour-On
044446-00051 | Renegade
045385-00002 | Chem-Tox Roach & Ant Spray with Dursban
045385-00003 | Chem-Tox Allethrin Fogging Spray
045385-00004 | Chem-Tox Roach and Ant Spray with Diazinon
045385-00005 | Chem-Tox Industrial & Household Spray
045385-00006 | Chem-Tox General Purpose Spray
045385-00014 | Chem-Tox Aqueous Food Plant Spray
045385-00015 | Chem-Tox Do It Yourself Pest Control
045385-00021 | Chem-Tox Dursban 2E Insecticide
045385-00022 | Chem-Tox Dursban 4E Insecticide
045385-00033 | Chem-Tox Diazinon 4E
045385-00042 | Pyronox 1 Plus 4
045385-00047 | Chem-Tox Dursban Plus Insect Killer
045385-00054 | Chem-Tox Dursban 12
045385-00073 | Pyrenone No.2
045385-00077 | Kill Quick Concentrate
045385-00079 | Cenol Flea Spray
045385-00083 | Cenol Home Pest Control
045385-00090 | Cenol Liquid Professional Insect Killer
045385-00091 | Chem-Tox Diazinon Industrial Insect Spray
045385-00095 | Chem-Tox Residual Insecticide Concentrate
045385-00096 | Chem-Tox Insect Fogger
045600-00017 | Insecta for Manholes
045735-00005 | G-A Pack
045987-00003 | Stop Buggin' Insect Repellent
045987-00005 | Bugchaser Insect Repellent Tablecloth
045987-00007 | Rodspray Indoor-Outdoor Crawling & Flying Insect Killer
046183-00010 | Bio-Chlor LB-525
046773-00002 | CL 2151
046773-00005 | CL-216
046813-00040 | CCL Flea & Tick Spray for Dog and Cats
046813-00044 | CCL Flea & Tick Pet Shampoo Mousse
046813-00045 | CCL Quick Breaking Insecticide Foam for Pets I
046813-00059 | CCL Quick Breaking Insecticide Foam for Pets II
047000-00060 | Household Insecticide (with Dursan*)
047000-00086 | CT-54 A Pyrenone Insecticide
047251-00005 | Alacide 512
047332-00001 | CPF Insecticide
047371-00183 | Formulation RTU-6075 (ma)
047567-00004 | Liquid Guardian
049723-00001 | Liquefied Chlorine Gas Under Pressure
049832-00006 | Sunbelt Technical Sulfur
050932-00002 | Concern Multi-Purpose Insect Killer
051036-00094 | Diazonon 2 Dust
051036-00180 | Micro Flo C0./ Parathion 8E
051036-00261 | Chlorpyrifos 4E-Wheat
052338-00001 | Farnam Three-Four-Eighty
053569-00001 | Chem Klor
053883-00028 | Martin's I.G. Regulator
053883-00032 | Martin's Eraser
054309-00001 | Chemfil Bacteriacide
054382-00006 | Point-Guard Ready-To-Use Miticide/Insecticide
055800-00001 | TY-D-BOL Automatic Toilet Bowl Cleaner
055800-00002 | TY-D-BOL Automatic Toilet Cleaner
055809-00001 | CRC Wasp and Hornet Killer
056159-00007 | Beaphar Tick & Flea Collar for Dogs
056316-00002 | Hyclor
056567-00002 | A587
056567-00003 | A 576
057091-00001 | Biocare 90
057091-00005 | Crystal Care 3” Chlorinating Tablets
057091-00006 | Crystal Care 1” Chlorinating Tablets
057091-00007 | Crystal Care Chlorinating Sticks
057091-00012 | Crystal Care Granular Chlorinating Concentrate
058035-00006 | Rejex-It AP-50
058300-00005 | Zydox AD-05
058300-00006 | Zydox-CD-02
058300-00007 | Zydox-AD-02
058300-00009 | Zydox-AH-05
059289-20001 | Sodium Hypochlorite Solution
059578-00007 | Rudducks Small Animal Spray
059578-00008 | Rudducks Mite and Lice Spray for Birds
059818-00001 | Chlorine Liquified Gas Under Preasure
059820-00003 | Benzyl Benzoate Technical Miticide
060061-00013 | Z-Spar Supertox TF Hard Type Antifouling Paint B-73 Brown
061202-00003 | Picloram/2,4-D - EZ-Ject
061219-00002 | Chlorine, Liquefied Gas
061483-00016 | Dsma Powder
061483-00021 | Ansar 170 Herbicide
061483-00022 | Ansar 529 Herbicide
061483-00023 | Ansar 184 Herbicide
061483-00024 | Disodium Methanearsonate
061483-00026 | Ansar DSMA Liquid
061483-00027 | Ansar 3 A.G. Herbicide Msma
061483-00028 | Monex Herbicide
061483-00029 | Phyban H.C. Railroad and Industrial Herbicide
061483-00030 | Ansar 8100 Herbicide
061483-00031 | Monosodium Acid Methanearsonate Technical Grade
061483-00032 | Ansar 170-H.C. Herbicide
061483-00033 | MAD Herbicide
061483-00034 | Monex 3 Herbicide
061483-00035 | Ansar 529 H.C. Herbicide (western Formulation)
061483-00036 | Ansar 8100 Herbicide (southern Formulation)
061483-00037 | Ansar 529 H.C. Herbicide (southern Formulation)
061483-00038 | Ansar 170 H.C. Herbicide Southern Formulation
061483-00039 | Kacanate
061483-00041 | Liquid DSMA
061483-00042 | Daconate T
061667-20001 | Sodium Hypochlorite
061966-00005 | Insect Control
061966-00008 | Outdoor Animal Control
061966-00009 | Insect Kill
062097-00008 | Exilis
062171-00002 | Hexazinone-EZ Ject
062719-00344 | Dma 4 IVM
063163-00001 | Phenosol
063163-00002 | Microcide
063191-00009 | Ready To Use St. Gabriel Laboratories Hot Pepper Wax Animal Repellent
063191-00010 | St. Gabriel Laboratories Hot Pepper Wax Inspect Repellent
063191-00011 | St. Gabriel Laboratories Hot Pepper Wax Animal Repellent
063376-00003 | Family Mosquito Repellent Mats
063376-00006 | Family 500 Mosquito Repellent Mats
063608-00001 | Vertigo
063992-00001 | Roach Cap
064471-00001 | Bye Deer
064684-00002 | No-Foul-WB
064684-00003 | No Foul-ZDF
065151-00003 | Bactericide Plus
065481-00002 | Hi-Lex Bleach
065626-00002 | Mycotrol GH-OF for Crops
065626-00007 | Mycotrol Wp Biological Insecticide
065695-20002 | Sodium Hypochlorite Solution
065723-00007 | A Q 90 Tablets 3”
065723-00008 | Act 90 Chlorinating Tablets 1”
065723-00009 | Aq 60 Medium Granular
065743-00001 | Bright Day Bleach
066306-00004 | Sunsect Insect Repellent Sunscreen (SPF 15)
066352-00001 | Garlic Barrier
066352-00005 | Garlic Barrier 3
066951-00001 | Lindane Technical Crystals
066951-00002 | Lindane Technical Powder
067517-00046 | Methoxychlor Spray I
067517-00050 | Tick and Mange Dip for Dogs
067576-00001 | Joymat-R Mosquito Mat
067576-00002 | Hunter Mosquito Coils
067770-00001 | Liquefied Chlorine Gas Under Pressure
067813-00003 | Dow Disinfectant Formulation 4A
067883-00001 | Hygra
068086-00002 | Flea Doctor
068146-00001 | 100% Methyl Bromide MAKR
068146-00002 | MAKR Carbon Dioxide
068153-00001 | Dichlojell Root Killer Cream
068403-00003 | OKA Mosquito Repellent Sticks
068563-00003 | Suet with Pepper Treat
068824-00001 | Copperclad 888
068891-00010 | Technical Lactic Acid
069223-20001 | Sodium Hypochlorite 12.5%
069264-00001 | Stat-5 Antimicrobial Spray
069797-00001 | Cleanbrom
069838-00001 | Afrotin Bwb
069874-00001 | Sodium Chlorate Crystal
070051-00037 | Agrisense Decoy Tpw Clips
070060-00003 | M-96-018 Kaolin
070228-00001 | Power-X
070419-00002 | Cal-Hypo 65
070419-00003 | Crystal Wave Calcium Hypochlorite Granular
070627-00030 | Surfacide/60
070743-00001 | Fire Ant Charlie
071076-00001 | The Sprinklelizer System
071326-00001 | Viralguard Cartridge
071352-00001 | Tick and Flea Flicker
071504-00001 | Eertavas
071655-00001 | Sodium Hypochlorite
071769-00001 | Primagard
071864-00001 | Herli-BCD
072203-00001 | Alcarbon 18/40 AG 005
072203-00002 | Sorb* Kat AG 0026
072203-00003 | Sorb* Kat AG 02
072304-00003 | Captram P-90M
072481-00001 | Serco Liquid Sanitizer
072481-00002 | Serco Liquid Germicidal Cleaner
072481-00003 | Serco Pine-Odor Disinfectant Cleaner
072567-00003 | Sumo 2-2 ULV
072567-00004 | Sumo 10-10 ULV
072647-00003 | Repelkote IC Cartons
073211-00001 | Osiris 25
073478-20004 | Bleach Wipe

IV. Public Docket

Complete lists of registrations canceled for non-payment of the maintenance fee will also be available for reference during normal business hours in the OPP Public Docket, Rm. 119, Crystal Mall 2, 1921 Jefferson Davis Highway South, Arlington VA, and at each EPA Regional Office. Product-specific status inquiries may be made by telephone by calling toll-free 1-800-444-7255.

List of Subjects

Environmental protection, Agricultural commodities, Pesticides and pests.

Dated: July 11, 2001.
Marcia E. Mulkey,
Director, Office of Pesticide Programs.

[FR Doc. 01-18537 Filed 7-24-01; 8:45 a.m.]

BILLING CODE 6560-50-S